DEPARTMENT OF ENERGY

Federal Energy Regulatory Commission

Notice of Applications Ready for Environmental Analysis, Soliciting Comments, Recommendations, Terms and Conditions, and Prescriptions, and Intent To Prepare One Multi-Project NEPA Document

January 31, 2002.

Take notice that the following applications have been filed with the Commission and are available for public inspection:

a. Type of Applications: Subsequent Licenses.

b. Project Nos.: P-6058-005, and P-6059-006.

c. Date Filed: January 2, 2001.

d. Applicant: Hydro Development Group, Inc.

e. Name of Projects: Hailesboro #4 Project, and Fowler #7 Project.

f. Location: On the Oswegatchie River in St. Lawrence County, near the town of Gouverneur, New York.

g. Filed Pursuant to: Federal Power Act 16 U.S.C. §§ 791 (a)-825(r).

h. Applicant Contact: Kevin M. Webb, Hydro Development Group, Inc., 200 Bulfinch Drive, Andover, MA 01810, (978) 681-1900 ext. 1214.

i. FERC Contact: Monte TerHaar, (202) 219-2768 or E-mail address at monte.terhaar@FERC.fed.us.

j. Deadline for filing comments, recommendations, terms and conditions, and prescriptions: 60 days from the issuance date of this notice.

All documents (original and eight copies) should be filed with: Magalie R. Salas, Secretary, Federal Energy Regulatory Commission, 888 First Street, NE, Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. See 18 CFR 385.2001(a)(1)(iii) and the instructions on the Commission's web site (http://www.ferc.gov) under the “e-Filing” link.

k. Status of environmental analysis: These applications have been accepted for filing and are now ready for environmental analysis. At this time we do not anticipate the need for preparing a draft EA. We intend to prepare one multi-project environmental document. The EA will include our recommendations for operating procedures and environmental enhancement measures that should be part of any new license issued by the Commission. Recipients will have 45 days to provide the Commission with any comments on that document. All comments on the EA, filed with the Commission, will be considered in an Order taking final action on the license applications. However, should substantive comments requiring reanalysis be received on the NEPA document, we would consider preparing a subsequent NEPA document.

l. Description of Projects: Hailesboro #4 Project: The existing, operating Hailesboro #4 Project consists of: (1) A concrete gravity-type dam comprising: (i) the 92-foot-long, 14-foot-high Dam #1 surmounted by a pneumatic gate; and (ii) the 58-foot-long, 5-foot-high Dam #2 surmounted by flashboards; (2) a reservoir with a 2.0-acre surface area and a gross storage volume of 20 acre-feet at normal water surface elevation 461 feet National Geodetic Vertical Datum (NGVD); (3) a gated intake structure with trashracks; (4) a 170-foot-long concrete-lined forebay canal; (5) a powerhouse containing a 640-kilowatt (kW) generating unit and an 850-kW generating unit for a total installed capacity of 1,490 kW; (6) a 2.4/23-kilovolt (kV) substation; (7) a 50-foot-long, 23-kV transmission line; (8) a tailrace; and (9) appurtenant facilities. The applicant estimates that the total average annual generation would be 11.0 megawatt-hours (MWh).

Fowler #7 Project: The existing, operating Fowler #7 Project consists of: (1) A concrete gravity-type dam surmounted by flashboards comprising: (i) the 75-foot-long, 25-foot-high Dam #1; (ii) the 192-foot-long, 20-foot-high Dam #2; and (iii) the 154-foot-long, 15-foot-high Dam #3; (2) a reservoir with a 3.0-acre surface area and a gross storage volume of 30-acre-feet at normal water surface elevation 542 feet NGVD; (3) an intake structure with trashracks; (4) a powerhouse containing three, 300-kW generating units for a total installed capacity of 900-kW; (5) a 1,000-kVA 2.3/23-kV transformer; (6) a 4,000-foot-long, 23-kV overhead transmission line; (7) a tailrace; and (8) appurtenant facilities. The applicant estimates that the total average annual generation would be 6.0 MWh.

m. Locations of the Applications: Copies of the applications are available for inspection or reproduction at the Commission's Public Reference and Files Maintenance Branch, located at 888 First Street, NE, Washington, DC 20426, or by calling (202) 208-2326. The applications may also be viewed on the web at http://www.ferc.gov using the “RIMS” link-select “Docket #” and follow the instructions (call 202-208-2222 for assistance). Copies are also available for inspection and reproduction at the Hydro Development Group, Inc., 200 Bulfinch Drive, Andover, MA 01810, (978) 681-1900 ext. 1214.

n. The Commission directs, pursuant to section 4.34(b) of the Regulations (see Order No. 533 issued May 8, 1991, 56 FR 23108, May 20, 1991) that all comments, recommendations, terms and conditions and prescriptions concerning the application be filed with the Commission within 60 days from the issuance date of this notice. All reply comments must be filed with the Commission within 105 days from the date of this notice.

Anyone may obtain an extension of time for these deadlines from the Commission only upon a showing of good cause or extraordinary circumstances in accordance with 18 CFR 385.2008.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

Linwood A. Watson, Jr.,
Acting Secretary.

[FR Doc. 02-2779 Filed 2-5-02; 8:45 am]

BILLING CODE 6717-01-P